DEPARTMENT OF THE TREASURY

Internal Revenue Service

26 CFR Part 301

[TD 8911]

RIN 1545-AV92

Relief for Service in Combat Zone and for Presidentially Declared Disaster; Correction

AGENCY: Internal Revenue Service (IRS), Treasury.

ACTION: Correction to final regulations.

SUMMARY: This document contains corrections to final regulations that were published in the Federal Register on December 15, 2000 (65 FR 78409). This document relates to the postponement of certain tax-related deadlines due either to service in a combat zone or a Presidentially declared disaster.

DATES: This correction is effective December 15, 2000.

FOR FURTHER INFORMATION CONTACT: Bridget E. Finkenaur (202) 622-4940 (not a toll-free number).

SUPPLEMENTARY INFORMATION:

Background

The final regulations that are the subject of these corrections are under section 7508 of the Internal Revenue Code.

Need for Correction

As published, the final regulations (TD 8911) contain errors that may prove to be misleading and are in need of clarification.

Correction of Publication

Accordingly, the publication of the final regulations (TD 8911), which are the subject of FR Doc. 00-31500, is corrected as follows:

§ 301.7508A-1 [Corrected]

1. On page 78412, column 2, § 301.7508A-1, paragraph (g), paragraph (i) of Example 4, the second line from the bottom of the paragraph, the language “payments. H and W's principal residence is” is corrected to read “payments. H's and W's principal residence is.”

2. On page 78412, column 2, § 301.7508A-1, paragraph (g), paragraph (iii) of Example 4, line 1, the language “Because H and W's principal residence” is corrected to read “Because H's and W's principal residence”.

3. On page 78412, column 2, § 301.7508A-1, paragraph (g), paragraph (iii) of Example 4, line 4, the language “date of H and W's 2001 Form 1040 and” is corrected to read “date of H's and W's 2001 Form 1040 and”.

4. On page 78412, column 3, § 301.7508A-1, paragraph (g), paragraph (iii) of Example 4, line 6 from the top of the column, the language “Accordingly, H and W's 2001 Form 1040 and” is corrected to read “Accordingly, H's and W's 2001 Form 1040 and”.

5. On page 78412, column 3, § 301.7508A-1, paragraph (g), paragraph (i) of Example 5, line 6, the language “of section 7508A, under section 6511(a), H” is corrected to read “of section 7508A, under section 6511(a), H's”.

6. On page 78413, column 1, § 301.7508A-1, paragraph (g), paragraph (i)of Example 8, second line from the bottom of the paragraph, the language “the 2001 taxable year. H and W's principal” is corrected to read “the 2001 taxable year . H's and W's principal”.

7. On page 78413, column 1, § 301.7508A-1, paragraph (g), paragraph (iii) of Example 8, line 1, the language “Because H and W's principal residence” is corrected to read “Because H's and W's principal residence”.

8. On page 78413, column 1, § 301.7508A-1, paragraph (g), paragraph (iii) of Example 8, line 12, the language “extension. Therefore, H and W's return and” is corrected to read “extension. Therefore, H's and W's return and”.

Cynthia E. Grigsby,
Chief, Regulations Unit, Office of Special Counsel (Modernization and Strategic Planning).

[FR Doc. 01-3774 Filed 2-14-01; 8:45 am]

BILLING CODE 4830-01-P